DEPARTMENT OF HEALTH AND HUMAN SERVICES

National Institutes of Health

Center for Scientific Review; Amended Notice of Meeting

Notice is hereby given of a change in the meeting of the Center for Scientific Review Special Emphasis Panel, February 14, 2006, 8 a.m. to February 14, 2006, 5 p.m., Churchill Hotel, 1914 Connecticut Avenue, NW., Washington, DC 20009, which was published in the Federal Register on January 27, 2006, 71 FR 4600-4603.

The meeting will be held February 24, 2006. The meeting time and location remain the same. The meeting is closed to the public.

Dated: February 2, 2006.
Anna Snouffer,
Acting Director, Office of Federal Advisory Committee Policy.

[FR Doc. 06-1333 Filed 2-13-06; 8:45 am]

BILLING CODE 4140-01-M